DEPARTMENT OF ENERGY

Federal Energy Regulatory Commission

[Docket No. RP17-808-000]

Algonquin Gas Transmission, LLC; Notice of Technical Conference

Take notice that a technical conference will be held on Wednesday, October 4, 2017 at 10:00 a.m., in a room to be designated at the offices of the Federal Energy Regulatory Commission, 888 First Street NE., Washington, DC 20426.

At the technical conference, the Commission staff and the parties to the proceeding should be prepared to discuss all issues in this proceeding as established in the September 1, 2017 Order.¹

¹ Algonquin Gas Trans., LLC, 160 FERC 61,046 (2017).

Federal Energy Regulatory Commission conferences are accessible under section 508 of the Rehabilitation Act of 1973. For accessibility accommodations please send an email to accessibility@ferc.gov or call toll free (866) 208-3372 (voice) or (202) 502-8659 (TTY), or send a fax to (202) 208-2106 with the required accommodations.

All interested persons and staff are permitted to attend. For further information please contact Leslie Fyock at (202) 502-6670 or email Leslie.Fyock@ferc.gov.

Dated: September 20, 2017.
Nathaniel J. Davis, Sr.,
Deputy Secretary.

[FR Doc. 2017-20558 Filed 9-25-17; 8:45 am]

BILLING CODE 6717-01-P